ENVIRONMENTAL PROTECTION AGENCY

[FRL-8026-3]

Notice of Two Open Meetings of the Environmental Financial Advisory Board (EFAB)

AGENCY: Environmental Protection Agency (EPA).

ACTION: Notice.

SUMMARY: The United States Environmental Protection Agency's (EPA) Environmental Financial Advisory Board (EFAB) will hold one full board meeting and one Roundtable on Sustainable Watershed Financing. EFAB is an EPA advisory committee chartered under the Federal Advisory Committee Act (FACA) to provide advice and recommendations to EPA on creative approaches to funding environmental programs, projects, and activities.

The purpose of this meeting is to hear from informed speakers on environmental finance issues, proposed legislation and Agency priorities and to discuss progress with work products under EFAB's current strategic action agenda.

Environmental financing topics expected to be discussed include: Financial assurance mechanisms, environmental management systems, loan guarantee programs, innovative environmental financing tools, sustainable watershed financing, the application of useful life financing to state revolving loan funds, and affordability of water and wastewater.

The purpose of the Roundtable is to explore innovative sustainable financing tools and techniques for timely implementation of watershed plans. The Board will collect information, ideas, and recommendations from a group of expert panelists who will share their perspectives.

Both meetings are open to the public, however; seating is limited. All members of the public who wish to attend either meeting must register in advance, no later than Monday, February 23, 2006.

DATES: Full Board Meeting is scheduled for March 7, 2006 from 1 p.m.-5 p.m. and March 8, 2006 from 8:45 a.m.-5 p.m. The Sustainable Watershed Finance Roundtable is scheduled for March 9, 2006 from 9 a.m.-5 p.m.

ADDRESSES: Wyndham Washington Hotel, 1400 M Street, NW., Washington, DC 20005.

Registration and Information Contact: To register for either meeting or get further information please contact Alecia Crichlow, U.S. EPA, at (202) 564-5188 or crichlow.alecia@epa.gov. Accommodations for persons with special needs should be requested at least 10 days prior to the meeting date.

Dated: January 19, 2006.
Joseph Dillon,
Director, Office of Enterprise Technology & Innovation.

[FR Doc. E6-1207 Filed 1-30-06; 8:45 am]

BILLING CODE 6560-50-P